DEPARTMENT OF JUSTICE

Office of Justice Programs

[OJP (NIJ) Docket No. 1776]

Request for Public Comment on Proposed Revision of NIJ Standard 0115.00, Stab Resistance of Personal Body Armor

AGENCY: National Institute of Justice, Justice.

ACTION: Notice.

SUMMARY: The National Institute of Justice (NIJ) seeks feedback from the public on a proposed revision of NIJ Standard 0115.00, Stab Resistance of Personal Body Armor, that specifies minimum performance requirements and test methods for the stab resistance of body armor used by U.S. criminal justice personnel that is intended to protect the torso against knife and spike stab threats.

DATES: Comments must be received by 5 p.m. Eastern Time on June 29, 2020.

How To Respond and What To Include: The draft document can be found here: https://nij.ojp.gov/standards-and-testing-requests-comment-and-information. The draft document is available in both Word and pdf formats. To submit comments, NIJ encourages commenters to fill out the comment template and send it in an email to the contact listed below with “Draft NIJ Standard 0115.01, Stab Resistance of Body Armor” in the subject line. Please provide contact information with the submission of comments. All materials submitted are subject to public release under the Freedom of Information Act, and will be shared with U.S. Government staff or U.S. Government contractors for evaluation purposes to revise the draft document. Comments should not include any sensitive personal information or commercially confidential information. If you wish to voluntarily submit confidential commercial information, but do not want it to be publicly released, you must mark that information prominently as “CONFIDENTIAL COMMERCIAL INFORMATION” and NIJ will, to the extent permitted by law, withhold such information from public release.

FOR FURTHER INFORMATION CONTACT: Mark Greene; Technology and Standards Division Director; Office of Research, Evaluation, and Technology; National Institute of Justice, 810 7th Street NW, Washington, DC 20531; telephone number: (202) 307-3384; email address: mark.greene2@usdoj.gov.

SUPPLEMENTARY INFORMATION: This draft document is a proposed revision of NIJ Standard 0115.00, Stab Resistance of Personal Body Armor, published in 2000 and found here: https://www.ncjrs.gov/pdffiles1/nij/183652.pdf. The final version of this draft document is anticipated to be published in 2021 as NIJ Standard 0115.01, Stab Resistance of Body Armor. Its primary purpose will be for use by the NIJ Compliance Testing Program (CTP) for testing and evaluation of stab-resistant body armor for certification by NIJ. It will be used by both laboratories that test body armor and body armor manufacturers participating in the NIJ CTP. This standard will be included in the Personal Body Armor scope of accreditation used by the National Voluntary Laboratory Accreditation Program (NVLAP) to accredit laboratories that test body armor.

For more information on NIJ's voluntary standards, please visit https://www.nij.gov/standards. For more information on body armor, please visit https://www.nij.gov/body-armor and https://www.policearmor.org.

David B. Muhlhausen,
Director, National Institute of Justice.

[FR Doc. 2020-06516 Filed 3-27-20; 8:45 am]

BILLING CODE 4410-20-P